DEPARTMENT OF COMMERCE

International Trade Administration

[A-570-867]

Certain Automotive Replacement Glass Windshields From the People's Republic of China: Notice of Partial Rescission of the Antidumping Duty Administrative Review

AGENCY: Import Administration, International Trade Administration, Department of Commerce.

SUMMARY: On May 27, 2004, in response to timely requests from respondents subject to the order on certain automotive replacement glass (“ARG”) windshields from the People's Republic of China (“PRC”), in accordance with section 751(a) of the Tariff Act of 1930, as amended (“the Act”), the Department of Commerce (“Department”) published in the Federal Register a notice of initiation of this antidumping duty administrative review of sales by certain exporters/producers. See Initiation of Antidumping and Countervailing Duty Administrative Reviews and Request for Revocation in Part, 69 FR 30282 (May 27, 2004) (“Initiation Notice”). Because Dongguan Kongwan Automobile Glass, Ltd. (“Dongguan Kongwan”), Peaceful City, Ltd. (“Peaceful City”), and Fuyao Glass Industry Group Company, Ltd. (“Fuyao”) have withdrawn their requests for administrative review and the petitioners did not request an administrative review of these exporters, the Department is rescinding this review of sales by Dongguan Kongwan, Peaceful City, and Fuyao in accordance with 19 CFR 351.213(d)(1). The Department is now publishing its determination to rescind the review of sales of subject merchandise by Dongguan Kongwan, Peaceful City, and Fuyao for the period of review.

EFFECTIVE DATE: October 12, 2004.

FOR FURTHER INFORMATION CONTACT: Robert Bolling or Jon Freed, Import Administration, International Trade Administration, U.S. Department of Commerce, 14th Street and Constitution Avenue NW., Washington, DC 20230; telephone: (202) 482-3434, (202) 482-3818, respectively.

SUPPLEMENTARY INFORMATION:

Background

On April 4, 2002, the Department published in the Federal Register the antidumping duty order on ARG windshields from PRC. See Antidumping Duty Order: Automotive Replacement Glass Windshields From the People's Republic of China, 67 FR 16087 (April 4, 2002). On April 1, 2004, the Department published a notice of opportunity to request an administrative review of the antidumping duty order on ARG windshields from the PRC for the period April 1, 2003, through March 31, 2004. See Antidumping or Countervailing Duty Order, Finding, or Suspended Investigation: Opportunity to Request Administrative Review, 69 FR 17129 (April 1, 2004). On April 24, 2004, Dongguan Kongwan and Peaceful City requested an administrative review of its sales to the United States during the period of review (“POR”). On April 26, 2004, Fuyao requested an administrative review of its sales to the United States during the POR. The petitioners in the original investigation did not request an administrative review of any parties. On May 27, 2004, the Department published in the Federal Register a notice of the initiation of the antidumping duty administrative review of ARG from the PRC for the period April 1, 2003 through March 31, 2004. See Initiation Notice.

On June 14, 2003, the Department issued antidumping duty questionnaires to the respondents, including Dongguan Kongwan, Peaceful City, and Fuyao. On July 8, 2004, Fuyao submitted a letter to the Department withdrawing its request for an administrative review of sales and entries of subject merchandise it exported. On July 12, 2004, Dongguan Kongwan and Peaceful City submitted a letter to the Department withdrawing their requests for an administrative review of sales and entries of subject merchandise which they exported.

Rescission of Review

Pursuant to 19 CFR 351.213(d)(1), the Department will rescind an administrative review, in whole or in part, if a party that requested a review withdraws the request within 90 days of the date of publication of notice of initiation of requested review. Dongguan Kongwan, Peaceful City, and Fuyao withdrew their respective requests for review within the 90-day time limit and no other party requested reviews with respect to these companies. Accordingly, we are rescinding this administrative review as to those companies and will issue appropriate assessment instructions to the U.S. Bureau of Customs and Border Protection with respect to exports from Dongguan Kongwan, Peaceful City, and Fuyao for the period April 1, 2003, through March 31, 2004. The Department will continue its review of other exporters/producers as announced in the Initiation Notice. See 69 FR 30282.

This notice serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and terms of APO is a sanctionable violation.

This determination is issued in accordance with 19 CFR 351.213(d)(4) and section 777(i)(1) of the Act.

Dated: September 29, 2004.
Jeffrey A. May,
Deputy Assistant Secretary for Import Administration.

[FR Doc. E4-2567 Filed 10-8-04; 8:45 am]

BILLING CODE 3510-DS-P